DEPARTMENT OF HEALTH AND HUMAN SERVICES

Administration for Community Living

[OMB No. 0985-0005]

Agency Information Collection Activities; Proposed Collection; Comment Request; State Annual Long-Term Care Ombudsman Report-National Ombudsman Reporting System

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on a revision to the information collection requirements related to the National Ombudsman Reporting System and Older Americans Act Title VII.

DATES: Comments on the collection of information must be submitted electronically by 11:59 p.m. (EST) or postmarked by May 10, 2021.

ADDRESSES: Submit electronic comments on the collection of information to: louise.ryan@acl.hhs.gov. Submit written comments on the collection of information to Administration for Community Living, Washington, DC 20201, Attention: Louise Ryan.

FOR FURTHER INFORMATION CONTACT: Louise Ryan, Administration for Community Living, Washington, DC 20201, (206) 615-2299 or by email: louise.ryan@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The report form and instructions have been in continuous use, with minor modifications, since OMB first approved them for the FY 1995 reporting period. The report underwent a substantive revision in April 2018, which included significant reduction in the number of data elements collected. This request covers minor changes and corrections to the current information collection. The data collection tool will enhance ACL's ability to understand and report on LTCO program operations, experiences of long-term care facility residents and will reflect changes in LTC Ombudsman program operations and long-term supports and services policies, research, and practices. States will continue to provide the following data and narrative information in the report:

1. Numbers and descriptions of cases filed and complaints made on behalf of long-term care facility residents to the statewide ombudsman program;

2. Major issues identified impacting on the quality of care and life of long-term care facility residents;

3. Statewide program operations; and

4. Ombudsman activities in addition to complaint investigation.

5. Organizational conflict of interest reporting as required by 45 CFR part 1324.21.

To comment on this information collection please visit the ACL website: https://www.acl.gov/about-acl/public-input.

Estimated Program Burden

ACL estimates the burden associated with this collection of information as follows: Approximately 7,780 hours, with 52 state Ombudsman programs responding annually.

Respondent/data collection activity | Number of respondents | Responses per respondent | Hours per response | Annual burden hours
Total | 52 | 1 | 149.6 | 7,780

Dated: March 4, 2021.
Alison Barkoff,
Acting Administrator and Assistant Secretary for Aging.

[FR Doc. 2021-04944 Filed 3-9-21; 8:45 am]

BILLING CODE 4154-01-P